DEPARTMENT OF STATE

[Public Notice 8030]

Shipping Coordinating Committee; Notice of Committee Meeting

The Shipping Coordinating Committee (SHC) will conduct an open meeting at 9:30 a.m. on Friday, November 16, in Room 2501 of the United States Coast Guard Headquarters Building, 2100 Second Street SW., Washington, DC 20593-7126. The primary purpose of the meeting is to prepare for the ninety-first Session of the International Maritime Organization's (IMO) Marine Safety Committee to be held at the IMO Headquarters, London, England, United Kingdom, November 26-30, 2012.

The matters to be considered include:

Adoption of the agenda; report on credentials;

Decisions of other IMO bodies;

Consideration and adoption of amendments to mandatory instruments;

Measures to enhance maritime security;

Goal-based new ship construction standards;

LRIT-related matters;

Passenger ship safety;

Making the Polar Code mandatory;

Radiocommunications and search and rescue (report of the sixteenth session of the Sub-Committee);

Flag State implementation (report of the twentieth session of the Sub-Committee);

Training and Watchkeeping (report of the forty-third session of the Sub-Committee);

Safety of navigation (report of the fifty-eighth session of the Sub-Committee);

Dangerous goods, solid cargoes and containers (urgent matters emanating from the seventeenth session of the Sub-Committee);

Technical co-operation activities relating to maritime safety and security;

Capacity-building for the implementation of new measures;

Formal safety assessment;

Piracy and armed robbery against ships;

Implementation of instruments and related matters;

Work programme;

Election of Chairman and Vice-Chairman for 2013;

Any other business;

Consideration of the report of the Committee on its ninety-first session.

Members of the public may attend this meeting up to the seating capacity of the room. To facilitate the building security process, and to request reasonable accommodation, those who plan to attend should contact the meeting coordinator, LCDR Matthew Frazee, by email at imo@uscg.mil; by phone at (202) 372-1376; or in writing at Commandant (CG-5PS), U.S. Coast Guard, 2100 2nd Street SW., Stop 7126, Washington, DC 20593-7126. Requests should be made no later than November 9, 2012. Requests made after this date might not be able to be accommodated. Please note that due to security considerations, two valid, government issued photo identifications must be presented to gain entrance to the Headquarters building. The Headquarters building is accessible by taxi and privately owned conveyance (public transportation is not generally available), however, parking in the vicinity of the building is extremely limited. Additional information regarding this and other IMO SHC public meetings may be found at: www.uscg.mil/imo.

Dated: September 12, 2012.
Brian Robinson,
Executive Secretary, Shipping Coordinating Committee, Department of State.

[FR Doc. 2012-23005 Filed 9-17-12; 8:45 am]

BILLING CODE 4710-09-P